DEPARTMENT OF COMMERCE

National Oceanic and Atmospheric Administration

Agency Information Collection Activities; Submission to the Office of Management and Budget (OMB) for Review and Approval; Comment Request; Generic Clearance for NOAA Citizen Science and Crowdsourcing Projects

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 26, 2022 (87 FR 52511) during a 60-day comment period. This notice allows for an additional 30 days for public comments.

Agency: National Oceanic and Atmospheric Administration (NOAA), Commerce.

Title: Generic Clearance for NOAA Citizen Science and Crowdsourcing Projects.

OMB Control Number: 0648-XXXX.

Form Number(s): None.

Type of Request: Regular submission (a new collection).

Total anticipated respondents: 672,000.

Average Minutes per Response: 9.3.

Estimated Total Burden Hours: 3.5 million.

Needs and Uses: This request is for a new generic clearance for National Oceanic & Atmospheric Administration (NOAA) citizen science and crowdsourcing (CSC) projects, which require OMB approval under the Paperwork Reduction Act. Once approved, this clearance will allow NOAA to:

1. Increase its ability be responsive to the Citizen Science and Crowdsourcing Act (15 U.S.C. 3724), as well as the other laws, Executive Orders (EOs) and Federal policies or plans, which authorize and/or support NOAA's CSC Projects;

2. Come into compliance with the PRA more rapidly and efficiently; and, therefore.

3. Obtain additional scientific information and be able to continue to use previously obtained scientific information that support its mission to understand and predict changes in climate, weather, ocean, and coasts, to share that knowledge and information with others, and to conserve and manage coastal and marine ecosystems and resources.

NOAA relies on scientific information. CSC projects allow NOAA to collect qualitative and quantitative data that help inform scientific research and monitoring, validate models or tools, support STEM learning, and enhance the quantity and quality of data collected to support NOAA's mission. NOAA would use the information gathered under this generic clearance to support the activities listed above and that might provide unprecedented avenues for conducting breakthrough research.

The information collected under this generic clearance would be from voluntary participants who actively seek to participate on their own initiative through an open and transparent process (NOAA would not require participation and often would not select participants) and the data would be available to support the scientific research (including assessments, tools, models, etc.) of NOAA and its partners. Its partners include states, tribal or local entities, business or other for-profit organizations, and not-for-profit institutions or organizations. In collaborating with other federal agencies and/or non-federal entities, NOAA could sponsor citizen science or crowdsourcing projects to collect information that supports its mission.

Affected Public: Individuals or households; Business or other for-profit organizations; Not-for-profit institutions; State, Local, or Tribal government; Federal government; and Farms.

Frequency: Ongoing with an average of about 33 responses per respondent each year.

Respondent's Obligation: Voluntary.

Legal Authority: Crowdsourcing and Citizen Science Act; 16 U.S. Code 742f(c); DOC's DAO 202-311; Coast and Geodetic Survey Act (CGSA); Coastal Zone Management Act (CZMA); Digital Coast Act (DAC); Endangered Species Act (ESA); Harmful Algal Bloom and Hypoxia Research and Control Act (HABHRCA); Magnuson-Stevens Fishery Conservation and Management Act (MSA); Marine Debris Act (MDA); Marine Mammal Protection Act (MMPA); National Environmental Education Act (NEEA); National Environmental Policy Act (NEPA); National Marine Sanctuaries Act (NMSA); Ocean and Coastal Mapping Integration Act (OCMIA); Organic Act of 1890 (OA); Weather Research and Forecasting Innovation Act (WRFIA); 15 U.S.C. ch. 9: (National Weather Service).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-17375 Filed 8-11-23; 8:45 am]

BILLING CODE 3510-12-P